DEPARTMENT OF ENERGY

Federal Energy Regulatory Commission

[Docket No. CP08-445-000]

Cheniere Creole Trail Pipeline, L.P.; Notice of Request Under Blanket Authorization

July 28, 2008.

Take notice that on July 22, 2008, Cheniere Creole Trail Pipeline, L.P. (Creole Trail), filed a prior notice request pursuant to sections 157.205, 157.208 and 157.212 of the Federal Energy Regulatory Commission's regulations under the Natural Gas Act for authorization to construct, own, and operate, under Creole Trail's blanket certificate issued in Docket No. CP05-358-000, an interconnect with the Barracuda Processing Plant, which is owned and operated by Targa Midstream Services, L.P. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Creole Trail proposes to construct approximately 130 feet of 12-inch diameter pipe near Milepost 0.5 of the Creole Trail Segment 1 Pipeline (Targa Interconnect) in order to interconnect the Creole Trail system with Targa's Barracuda Processing Plant in Johnson Bayou, Cameron Parish, Louisiana. The Targa Interconnect will bi bi-directional and provide shippers on Creole Trail Pipeline the ability to deliver re-gasified LNG for processing or to receive processed domestic natural gas for transport.

The Targa Interconnect will be designed with a maximum allowable pressure (MAOP) of 1,480 psig and, based in customer demand, delivery or receipt of up to 200 MMcf/d. The estimated cost of the Targa Interconnect is $150,000.

Any questions regarding the application should be directed to Joey Mahmoud, V.P., Regulatory and Compliance, Cheniere Energy, Inc., 700 Milam Suite 800, Houston, TX 77002, or (713) 375-5000; or to Lisa Tonery, Fulbright & Jaworski LLP, 666 Fifth Avenue, New York, NY 10103 or (212) 318-3009.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1) (iii) and the instructions on the Commission's Web site (http://www.ferc.gov) under the “e-Filing” link.

Kimberly D. Bose,
Secretary.

[FR Doc. E8-17880 Filed 8-4-08; 8:45 am]

BILLING CODE 6717-01-P